COMMISSION ON CIVIL RIGHTS

Notice of Public Meeting of the Louisiana Advisory Committee for a Meeting To Hear Public Testimony Regarding Civil Rights and Voter Accessibility in the State

AGENCY: U.S. Commission on Civil Rights.

ACTION: Announcement of meeting.

SUMMARY: Notice is hereby given, pursuant to the provisions of the rules and regulations of the U.S. Commission on Civil Rights (Commission) and the Federal Advisory Committee Act that the Louisiana Advisory Committee (Committee) will hold a meeting on Wednesday, December 6, 2017, from 9:00 a.m. to 4:00 p.m. CST, for the purpose of hearing public testimony regarding civil rights and voter access in the state.

DATES: The meeting will be held on Wednesday, December 6, 2017, from 9:00 a.m. to 4:00 p.m. CST.

Location: Louisiana State Capitol, House Committee Room 1, 900 North Third Street, Baton Rouge, LA 70802.

FOR FURTHER INFORMATION CONTACT: David Barreras, DFO, at dbarreras@usccr.gov or 312-353-8311.

SUPPLEMENTARY INFORMATION: This meeting is free and open to the public. Persons with disabilities requiring reasonable accommodations should contact the Midwest Regional Office prior to the meeting to make appropriate arrangements. Members of the public are invited to make statements during an open comment period. In addition, members of the public may submit written comments; the comments must be received in the regional office no later than December 31, 2017. Written comments may be mailed to the Midwestern Regional Office, U.S. Commission on Civil Rights, 55 W. Monroe St., Suite 410, Chicago, IL 60615. They may also be faxed to the Commission at (312) 353-8324, or emailed to David Barreras at dbarreras@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Louisiana Advisory Committee link (https://www.facadatabase.gov/committee/meetings.aspx?cid=251). Select “meeting details” and then “documents” to download. Persons interested in the work of this Committee are directed to the Commission's Web site, http://www.usccr.gov, or may contact the Midwestern Regional Office at the above email or street address.

Agenda

Opening Remarks and Introductions (9:00 a.m.-9:15 a.m.)

Panel 1: Legal and Academic Research on Voting Rights (9:15 a.m.-10:30 a.m.)

Panel 2: Policy Makers/Community Organizations/Non-Profits (10:45 a.m.-12:00 p.m.)

Break (12:00 p.m.-1:00 p.m.)

Panel 3: TBD

Panel 4: TBD

Open Comment Period: (3:45-4:00 p.m.)

Closing Remarks (4:00 p.m.)

Dated: November 17, 2017.
David Mussatt,
Supervisory Chief, Regional Programs Unit.

[FR Doc. 2017-25265 Filed 11-21-17; 8:45 am]

BILLING CODE P